DEPARTMENT OF COMMERCE

National Oceanic and Atmospheric Administration

50 CFR Part 622

RIN 0648-AS65

Fisheries of the Caribbean, Gulf of Mexico, and South Atlantic; Aquaculture

AGENCY: National Marine Fisheries Service (NMFS), National Oceanic and Atmospheric Administration (NOAA), Commerce.

ACTION: Notice of Availability of the Fishery Management Plan for Regulating Offshore Marine Aquaculture in the Gulf of Mexico (FMP); request for comments.

SUMMARY: The Gulf of Mexico Fishery Management Council (Council) has submitted the FMP for review, approval, and implementation by NMFS. The FMP is intended to establish a comprehensive permitting and regulatory framework to manage the development of an environmentally sound and economically sustainable aquaculture industry in the Gulf of Mexico exclusive economic zone (EEZ). The FMP would establish application and permit requirements, aquaculture operational requirements and restrictions, siting requirements and conditions, and recordkeeping and reporting requirements; specify allowable aquaculture species; provide for evaluation and approval/disapproval of proposed aquaculture systems (e.g., cages or net pens); establish restricted access zones around aquaculture facilities; and establish a regulatory framework for modifying certain aquaculture-related management measures consistent with the provisions of the FMP. In addition, the FMP would establish biological reference points and status determination criteria specific to aquaculture in the EEZ.

DATES: Comments must be received no later than 5 p.m., eastern time, on August 3, 2009.

ADDRESSES: You may submit comments on the proposed rule, identified by “0648-AS65”, by any one of the following methods:

• Electronic Submissions: Submit all electronic public comments via the Federal eRulemaking Portal http://www.regulations.gov.

• Mail: Jess Beck, Southeast Regional Office, NMFS, 263 13th Avenue South, St. Petersburg, FL 33701.

Instructions: All comments received are a part of the public record and will generally be posted to http://www.regulations.gov without change. All Personal Identifying Information (for example, name, address, etc.) voluntarily submitted by the commenter may be publicly accessible. Do not submit confidential business information or otherwise sensitive or protected information.

To submit comments through the Federal e-Rulemaking Portal: http://www.regulations.gov, enter “NOAA-NMFS-2008-0233” in the keyword search, then check the box labeled “Select to find documents accepting comments or submissions”, then select “Send a Comment or Submission.” NMFS will accept anonymous comments (enter N/A in the required fields, if you wish to remain anonymous). Attachments to electronic comments will be accepted in Microsoft Word, Excel, WordPerfect, or Adobe PDF file formats only.

Copies of the FMP may be obtained from the Gulf of Mexico Fishery Management Council, 2203 North Lois Avenue, Suite 1100, Tampa, FL 33607; telephone 813-348-1630; fax 813-348-1711; e-mail: gulfcouncil@gulfcouncil.org; or may be downloaded from the Council's website at http://www.gulfcouncil.org/. The FMP includes a Programmatic Environmental Impact Statement (PEIS), an Initial Regulatory Flexibility Analysis, a Regulatory Impact Review, and a Social Impact Assessment/Fishery Impact Statement.

FOR FURTHER INFORMATION CONTACT: Jess Beck, telephone: 727-824-5301; fax: 727-824-5320; e-mail: Jess.Beck@noaa.gov.

SUPPLEMENTARY INFORMATION: The FMP was prepared by the Council and is implemented through regulations at 50 CFR part 622 under the authority of the Magnuson-Stevens Fishery Conservation and Management Act (Magnuson-Stevens Act).

Background

Demand for protein is increasing in the United States. Today imports account for over 80 percent of the U.S. seafood consumption. As demand for seafood as protein continues to increase many commercial wild-capture fisheries are being fished at or above sustainable levels and are likely unable to meet such growing demand. Aquaculture of commercially and recreationally important species has been suggested as one method to meet the current and future demands for seafood.

Currently, there is no process for accommodating commercial scale offshore aquaculture in Gulf of Mexico exclusive economic zone, other than live rock aquaculture which is authorized under Amendments 2 and 3 to the Coral and Coral Reefs FMP. NOAA Fisheries Service may issue an exempted fishing permit (EFP) to conduct offshore aquaculture in federal waters; however, an EFP is of limited duration and is not intended for commercial production of fish and shellfish. The Council has submitted the FMP to NMFS for agency review under procedures of the Magnuson-Stevens Act. The purpose of this FMP is to establish a comprehensive permitting and regulatory framework to manage the development of an environmentally sound and economically sustainable aquaculture industry in the EEZ.

The Council chose alternatives that would: establish application and permit requirements, aquaculture operational requirements and restrictions, siting requirements and conditions, and recordkeeping and reporting requirements; specify allowable aquaculture species; provide for evaluation and approval/disapproval of proposed aquaculture systems (e.g., cages or net pens); establish restricted access zones around aquaculture facilities; establish a regulatory framework for modifying certain aquaculture-related management measures consistent with the provisions of the FMP; and establish biological reference points and status determination criteria specific to aquaculture in the EEZ.

The FMP, including the PEIS, would serve as the basis for evaluating the potential effects of issuing permits to Gulf aquaculture operations. Potential effects falling outside the scope of the actions proposed would be further analyzed through additional National Environmental Policy Act analyses conducted by the Council and NMFS.

The Council has submitted the FMP for Secretarial review, approval, and implementation. NMFS' decision to approve, partially approve, or disapprove the FMP will be based, in part, on consideration of comments, recommendations, and information received during the comment period on this notice of availability. After consideration of these factors, and consistency with the Magnuson-Stevens Act and other applicable laws, NMFS will publish a notice of agency action in the Federal Register announcing the Agency's decision to approve, partially approve, or disapprove the FMP, and the associated rationale.

Consideration of Public Comments

Public comments received by 5 p.m. eastern time, on August 3, 2009, will be considered by NMFS in the approval/disapproval decision regarding the FMP.

Authority: 16 U.S.C. 1801 et seq.

Dated: May 29, 2009.
Kristen C. Koch,
Acting Director, Office of Sustainable Fisheries, National Marine Fisheries Service.

[FR Doc. E9-13090 Filed 6-3-09; 8:45 am]

BILLING CODE 3510-22-S